DEPARTMENT OF ENERGY

Federal Energy Regulatory Commission

Combined Notice of Filings #1

Take notice that the Commission received the following electric rate filings:

Docket Numbers: ER13-1071-000.

Applicants: PJM Interconnection, L.L.C.

Description: PJM Interconnection, L.L.C. submits Notice of Cancellation of Wholesale Market Participation Agreement No. 2372.

Filed Date: 3/12/13.

Accession Number: 20130312-5099.

Comments Due: 5 p.m. ET 4/2/13.

Docket Numbers: ER13-1072-000.

Applicants: PJM Interconnection, L.L.C.

Description: Notice of Cancellation of Original SA No. 2927 in Docket No. ER11-3647-000 to be effective 2/19/2013.

Filed Date: 3/12/13.

Accession Number: 20130312-5125.

Comments Due: 5 p.m. ET 4/2/13.

Docket Numbers: ER13-1073-000.

Applicants: PJM Interconnection, L.L.C.

Description: Notice of Cancellation of Original SA No. 2928 in Docket No. ER11-3648-000 to be effective 2/19/2013.

Filed Date: 3/12/13.

Accession Number: 20130312-5150.

Comments Due: 5 p.m. ET 4/2/13.

Docket Numbers: ER13-1074-000.

Applicants: Midwest Independent Transmission System Operator, Inc.

Description: Midwest Independent Transmission System Operator, Inc. submits Notice of Termination of Generator Interconnection Agreement No. 2300 for Project G968.

Filed Date: 3/12/13.

Accession Number: 20130312-5264.

Comments Due: 5 p.m. ET 4/2/13.

Docket Numbers: ER13-1075-000.

Applicants: Southern California Edison Company.

Description: Amended GIA and Distribution Service Agreement to CSUSB Fuel Cell Project to be effective 3/14/2013.

Filed Date: 3/13/13.

Accession Number: 20130313-5000.

Comments Due: 5 p.m. ET 4/3/13.

Docket Numbers: ER13-1076-000.

Applicants: American Electric Power Service Corporation.

Description: Petition of American Electric Power Service Corporation for limited waiver of Schedule 8.1 of the Reliability Assurance Agreement Among Load Serving Entities in the PJM Region and Request for Expedited Consideration.

Filed Date: 3/12/13.

Accession Number: 20130312-5310.

Comments Due: 5 p.m. ET 4/2/13.

Docket Numbers: ER13-1077-000.

Applicants: New York Independent System Operator, Inc., Niagara Mohawk Power Corporation.

Description: New York Independent System Operator, Inc. submits tariff filing per 35.13(a)(2)(iii): SA 1970 between National Grid and Indeck-Yerkes Limited Partnership to be effective 12/26/2012.

Filed Date: 3/13/13.

Accession Number: 20130313-5038.

Comments Due: 5 p.m. ET 4/3/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2013.
Nathaniel J. Davis, Sr.,
Deputy Secretary.

[FR Doc. 2013-06380 Filed 3-19-13; 8:45 am]

BILLING CODE 6717-01-P